DEPARTMENT OF THE INTERIOR

Bureau of Land Management

[12X.LLAZG01000.L71220000.EU0000.LVTFA1258570 241A; AZA-35682]

Notice of Realty Action: Direct Sale of Public Land in Graham County, AZ

AGENCY: Bureau of Land Management, Interior.

ACTION: Notice of realty action.

SUMMARY: The Bureau of Land Management (BLM), Safford Field Office (SFO), is considering a noncompetitive direct sale of approximately 15 acres of public land in Graham County, Arizona, to Gilligan and Blanca Bowman (proponents) for not less than the appraised fair market value (FMV).

DATES: In order to ensure consideration in the environmental analysis of the proposed sale, the BLM must receive comments by January 13, 2014.

ADDRESSES: Written comments concerning the proposed direct sale should be sent to Scott Cooke, Field Manager, BLM Safford Field Office, 711 14th Avenue, Safford, AZ 85546.

FOR FURTHER INFORMATION CONTACT: Ron Peru, Realty Specialist, at the above address, or phone 928-348-4439. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following described parcel of public land in Graham County, Arizona, is being considered for direct sale under Sections 203 and 209 of the Federal Land Policy and Management Act of 1976 (FLPMA), as amended (43 U.S.C. 1713 and 1719) and the regulations at 43 CFR subparts 2710 and 2720:

Gila and Salt River Meridian, Arizona

Township 7 South, Range 27 East, sec. 8, S1/2SW1/4NE1/4SW1/4 and SE1/4NE1/4SW1/4,

The area described contains approximately 15 acres.

Consistent with Section 203 of FLPMA, a tract of public land may be sold where, as a result of land use planning, sale of the tract meets the disposal criteria of that section.

The public lands described above were identified as suitable for disposal by the BLM Safford District Resource Management Plan in August 1991. The parcel is not needed for any other Federal purpose and has become difficult and uneconomical to manage due to public lands in Sections 7 and 8 being encumbered on three sides by private land.

The regulations found at 43 CFR 2710.0-3(a) and 43 CFR 2711.3-3(a)(5) permit the BLM to make direct sales of public lands when a competitive sale is not appropriate and the public interest would be best served by a direct sale. The regulations at 43 CFR 2711.3-3(a)(5) permit direct sales to occur to resolve inadvertent unauthorized use or occupancy of the lands.

With respect to the lands above, there is an inadvertent unauthorized occupancy on the land that consists of an access road and buildings associated with a residence.

The unauthorized developments have been in place for approximately 10 years. The proponents of the direct sale wish to purchase the parcel to resolve this inadvertent unauthorized occupancy, and the BLM has concluded that the public interest would be best served by a direct sale of those lands. No significant biological and cultural resource values have been identified on the lands in questions. As a result, there are no impacts to resource values that are expected from this action. The BLM prepared a mineral potential report, dated June 22, 2012, and the lands identified for sale have no known mineral value. The BLM proposes that the conveyance of the Federal mineral interest occur simultaneously with the sale. The proponents will be required to pay a $50 non-refundable filing fee in conjunction with the final payment for processing of the conveyance of the mineral interests. The project is not expected to affect the San Carlos Indian Reservation located about 12 miles away. In addition to this Notice of Realty Action (NORA), notice of this sale will also be published once a week for 3 weeks in the Eastern Arizona Courier.

Pursuant to the requirements of 43 CFR 2711.1-2(d), upon publication of this notice in the Federal Register, the lands identified above will be segregated from all appropriation under the public land laws, including the mining laws. Upon publication of this NORA, and until completion of the sale, the BLM will no longer accept land use applications affecting the identified public land, except applications for the amendment of previously filed right-of-way applications or existing authorizations to increase the term of the grants in accordance with 43 CFR 2807.15 and 43 CFR 2886.15. This segregation will terminate upon issuance of a patent, publication in the Federal Register of a termination of the segregation, or November 30, 2015, whichever comes first unless extended by the BLM Arizona State Director in accordance with 43 CFR 2711.1-2(d) prior to the termination date. The following terms and conditions would appear as reservations to the United States on the conveyance document for this parcel:

1. A right-of-way thereon for ditches or canals constructed by the authority of the United States, Act of August 30, 1890 (43 U.S.C. 945);

2. Right-of-way AZAR-02060 is reserved for a water pipeline granted to the City of Safford, its successors or assigns, pursuant to the Act of February 15, 1901 (43 U.S.C. 959);

3. Right-of-way AZA-9015 is reserved for a transmission line granted to Southwest Transmission Cooperative, its successors or assigns, pursuant to the Act of October 21, 1976 (43 U.S.C. 1761); and

4. Additional terms and conditions that the authorized officer deems appropriate.

A map delineating the proposed direct sale parcel and Mineral Potential Report are available for public review at the BLM SFO, which is located at the address above. Upon receipt of an approved appraisal, publication of a subsequent NORA will include the FMV for the sale parcel and will be available for review 60 days prior to the sale date. An environmental assessment (EA) is being prepared for the proposed direct sale. When completed, the EA will be available for review at the address above.

Public comments concerning the proposed direct sale may be submitted in writing to the attention of the BLM Safford Field Manager at the address above. Comments, including names and street addresses of respondents, will be available for public review at the BLM SFO during regular business hours. Before including your address, phone number, email address, or other personal identifying information in your comment, you should be aware that your entire comment—including your personal identifying information—may be made publicly available at any time. While you may ask us in your comment to withhold from public review your personal identifying information, we cannot guarantee that we will be able to do so.

Any comments regarding the proposed direct sale will be reviewed by the BLM Safford Field Manager or other authorized official of the Department of the Interior, who may sustain, vacate, or modify this realty action in whole or in part. In the absence of timely filed objections, this realty action will become the final determination of the Department of the Interior not less than 60 days from November 29, 2013.

Authority: 43 CFR 2711.1-2, 43 CFR 2720.1-1(b)

Scott C. Cooke,
BLM Safford Field Manager.

[FR Doc. 2013-28617 Filed 11-27-13; 8:45 am]

BILLING CODE 4310-32-P